DEPARTMENT OF HOMELAND SECURITY

Federal Emergency Management Agency

[Docket ID FEMA-2019-0002; Internal Agency Docket No. FEMA-B-1958]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Adams | City of Commerce City (19-08-0227P). | The Honorable Sean Ford, Mayor, City of Commerce City, 7887 East 60th Avenue, Commerce City, CO 80022. | City Hall, 5291 East 60th Avenue, Commerce City, CO 80022. | https://msc.fema.gov/portal/advanceSearch. | Oct. 30, 2019 | 080006
Douglas | Town of Castle Rock (18-08-1226P). | The Honorable Jason Gray, Mayor, Town of Castle Rock, 100 North Wilcox Street, Castle Rock, CO 80104. | Water Department, 175 Kellogg Court, Castle Rock, CO 80109. | https://msc.fema.gov/portal/advanceSearch. | Dec. 6, 2019 | 080050
Douglas | Unincorporated areas of Douglas County (18-08-1226P). | The Honorable Roger A. Partridge, Chairman, Douglas County Board of Commissioners, 100 3rd Street, Castle Rock, CO 80104. | Douglas County Public Works, Engineering Division, 100 3rd Street, Castle Rock, CO 80104. | https://msc.fema.gov/portal/advanceSearch. | Dec. 6, 2019 | 080049
El Paso | Town of Palmer Lake (19-08-0006P). | The Honorable John Cressman, Mayor, Town of Palmer Lake, P.O. Box 208, Palmer Lake, CO 80133. | Town Hall, 42 Valley Crescent Street, Palmer Lake, CO 80133. | https://msc.fema.gov/portal/advanceSearch. | Dec. 17, 2019 | 080065
Jefferson | Unincorporated areas of Jefferson County (19-08-0696P). | The Honorable Libby Szabo, Chair, Jefferson County Board of Commissioners, 100 Jefferson County Parkway, Suite 5550, Golden, CO 80419. | Jefferson County Department of Planning and Zoning, 100 Jefferson County Parkway, Suite 3550, Golden, CO 80419. | https://msc.fema.gov/portal/advanceSearch. | Dec. 6, 2019 | 080087
Pueblo | City of Pueblo (19-08-0224P). | The Honorable Nicholas A. Gradisar, Mayor, City of Pueblo, 1 City Hall Place, Pueblo, CO 81003. | Public Works Department, 211 East D Street, Pueblo, CO 81003. | https://msc.fema.gov/portal/advanceSearch. | Dec. 9, 2019 | 085077
Pueblo | City of Pueblo (19-08-0225P). | The Honorable Nicholas A. Gradisar, Mayor, City of Pueblo, 1 City Hall Place, Pueblo, CO 81003. | Public Works Department, 211 East D Street, Pueblo, CO 81003. | https://msc.fema.gov/portal/advanceSearch. | Dec. 2, 2019 | 085077
Pueblo | Unincorporated areas of Pueblo County (19-08-0224P). | The Honorable Garrison Ortiz, Chairman, Pueblo County Board of Commissioners, 215 West 10th Street, Pueblo, CO 81003. | Pueblo County Planning and Development Department, 229 West 12th Street, Pueblo, CO 81003. | https://msc.fema.gov/portal/advanceSearch. | Dec. 9, 2019 | 080147
Pueblo | Unincorporated areas of Pueblo County (19-08-0225P). | The Honorable Garrison Ortiz, Chairman, Pueblo County Board of Commissioners, 215 West 10th Street, Pueblo, CO 81003. | Pueblo County Planning and Development Department, 229 West 12th Street, Pueblo, CO 81003. | https://msc.fema.gov/portal/advanceSearch. | Dec. 2, 2019 | 080147
Weld | Town of Firestone (18-08-1233P). | The Honorable Bobbi Sindelar, Mayor, Town of Firestone, P.O. Box 100, Firestone, CO 80520. | Town Hall, 151 Grant Avenue, Firestone, CO 80520. | https://msc.fema.gov/portal/advanceSearch. | Oct. 28, 2019 | 080241
Weld | Town of Frederick (18-08-1233P). | The Honorable Tony Carey, Mayor, Town of Frederick, P.O. Box 435, Frederick, CO 80530. | Town Hall, 401 Locust Street, Frederick, CO 80530. | https://msc.fema.gov/portal/advanceSearch. | Oct. 28, 2019 | 080244
Connecticut: New Haven | Town of Branford (19-01-0945P). | The Honorable James B. Cosgrove, First Selectman, Town of Branford Board of Selectmen, 1019 Main Street, Branford, CT 06405. | Engineering Department, 1019 Main Street, Branford, CT 06405. | https://msc.fema.gov/portal/advanceSearch. | Nov. 15, 2019 | 090073
Florida:
Collier | City of Marco Island (19-04-4090P). | Mr. Mike McNees, Manager, City of Marco Island, 50 Bald Eagle Drive, Marco Island, FL 34145. | Building Services Department, 50 Bald Eagle Drive, Marco Island, FL 34145. | https://msc.fema.gov/portal/advanceSearch. | Dec. 9, 2019 | 120426
Duval | City of Jacksonville (18-04-6836P). | The Honorable Lenny Curry, Mayor, City of Jacksonville, 117 West Duval Street, Suite 400, Jacksonville, FL 32202. | Development Department, 214 North Hogan Street, Suite 2100, Jacksonville, FL 32202. | https://msc.fema.gov/portal/advanceSearch. | Nov. 21, 2019 | 120077
Lee | Town of Fort Myers Beach (19-04-4644P). | The Honorable Anita Cereceda, Mayor, Town of Fort Myers Beach, 2525 Estero Boulevard, Fort Myers Beach, FL 33931. | Community Development Department, 2525 Estero Boulevard, Fort Myers Beach, FL 33931. | https://msc.fema.gov/portal/advanceSearch. | Nov. 18, 2019 | 120673
Monroe | Unincorporated areas of Monroe County (19-04-4308P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Dec. 6, 2019 | 125129
Monroe | Unincorporated areas of Monroe County (19-04-4321P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Dec. 9, 2019 | 125129
Monroe | Village of Islamorada (19-04-3903P). | The Honorable Deb Gillis, Mayor, Village of Islamorada, 86800 Overseas Highway, Islamorada, FL 33036. | Building Department, 86800 Overseas Highway, Islamorada, FL 33036. | https://msc.fema.gov/portal/advanceSearch. | Nov. 29, 2019 | 120424
Orange | City of Orlando (19-04-3135P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Dec. 4, 2019 | 120186
Pinellas | Town of Redington Shores (19-04-5852P). | The Honorable MaryBeth Henderson, Mayor, Town of Redington Shores, 17425 Gulf Boulevard, Redington Shores, FL 33708. | Building Department, 17425 Gulf Boulevard, Redington Shores, FL 33708. | https://msc.fema.gov/portal/advanceSearch. | Dec. 9, 2019 | 125141
Sarasota | City of Sarasota (19-04-4109P). | The Honorable Liz Alpert, Mayor, City of Sarasota, 1565 1st Street, Room 101, Sarasota, FL 34236. | Development Department, 1565 1st Street, Sarasota, FL 34236. | https://msc.fema.gov/portal/advanceSearch. | Dec. 6, 2019 | 125150
Sarasota | Unincorporated areas of Sarasota County (19-04-3511P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Dec. 11, 2019 | 125144
Oklahoma: Wagoner | City of Wagoner (18-06-3911P). | The Honorable Albert Jones, Mayor, City of Wagoner, 231 East Church Street, Wagoner, OK 74467. | City Hall, 231 East Church Street, Wagoner, OK 74467. | https://msc.fema.gov/portal/advanceSearch. | Dec. 19, 2019 | 400219
Pennsylvania:
Lancaster | Township of East Lampeter (19-03-1025P). | Mr. Ralph Hutchison, Manager, Township of East Lampeter, 2250 Old Philadelphia Pike, Lancaster, PA 17602. | Planning, Zoning and Building Department, 2250 Old Philadelphia Pike, Lancaster, PA 17602. | https://msc.fema.gov/portal/advanceSearch. | Oct. 28, 2019 | 421771
Lancaster | Township of Leacock (19-03-1025P). | The Honorable Frank Howe, Chairman, Township of Leacock Board of Supervisors, P.O. Box 558, Intercourse, PA 17534. | Zoning Department, 3545 West Newport Road, Ronks, PA 17572. | https://msc.fema.gov/portal/advanceSearch. | Oct. 28, 2019 | 420958
Lancaster | Township of Paradise (19-03-1025P). | The Honorable Donald L. Ranck, Chairman, Township of Paradise Board of Supervisors, P. O. Box 40, Paradise, PA 17562. | Zoning Department, 2 Township Drive, Paradise, PA 17562. | https://msc.fema.gov/portal/advanceSearch. | Oct. 28, 2019 | 421777
Tennessee: Hamilton | City of Collegedale (19-04-1351P). | The Honorable Katie A. Lamb, Mayor, City of Collegedale, 4910 Swinyar Drive, Collegedale, TN 37315. | Building and Codes Department, 4910 Swinyar Drive, Collegedale, TN 37315. | https://msc.fema.gov/portal/advanceSearch. | Nov. 18, 2019 | 475422
Texas:
Bexar | City of San Antonio (19-06-0514P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Nov. 4, 2019 | 480045
Denton | Town of Flower Mound (19-06-0627P). | The Honorable Steve Dixon, Mayor, Town of Flower Mound, 2121 Cross Timbers Road, Flower Mound, TX 75028. | Town Hall, 2121 Cross Timbers Road, Flower Mound, TX 75028. | https://msc.fema.gov/portal/advanceSearch. | Dec. 17, 2019 | 480777
Gillespie | City of Fredericksburg (19-06-0111P). | The Honorable Linda Langerhans, Mayor, City of Fredericksburg, 126 West Main Street, Fredericksburg, TX 78624. | City Hall, 126 West Main Street, Fredericksburg, TX 78624. | https://msc.fema.gov/portal/advanceSearch. | Dec. 5, 2019 | 480252
Gillespie | Unincorporated areas of Gillespie County (19-06-0111P). | The Honorable Mark Stroeher, Gillespie County Judge, 101 West Main Street, Fredericksburg, TX 78624. | Gillespie County Courthouse, 101 West Main Street, Fredericksburg, TX 78624. | https://msc.fema.gov/portal/advanceSearch. | Dec. 5, 2019 | 480696
Guadalupe | City of Seguin (18-06-3667P). | The Honorable Don Keil, Mayor, City of Seguin, 205 North River Street, Seguin, TX 78155. | City Hall, 205 North River Street, Seguin, TX 78155. | https://msc.fema.gov/portal/advanceSearch. | Dec. 11, 2019 | 485508
Harris | Unincorporated areas of Harris County (18-06-3326P). | The Honorable Lina Hidalgo, Harris County Judge, 1001 Preston Street, Suite 911, Houston, TX 77002. | Harris County Permit Office, 10555 Northwest Freeway, Suite 120, Houston, TX 77092. | https://msc.fema.gov/portal/advanceSearch. | Nov. 18, 2019 | 480287
Harris | Unincorporated areas of Harris County (19-06-0808P). | The Honorable Lina Hidalgo, Harris County Judge, 1001 Preston Street, Suite 911, Houston, TX 77002. | Harris County Permit Office, 10555 Northwest Freeway, Suite 120, Houston, TX 77092. | https://msc.fema.gov/portal/advanceSearch. | Oct. 28, 2019 | 480287
Johnson | City of Joshua (19-06-1085P). | The Honorable Kenny Robinson, Mayor, City of Joshua, 101 South Main Street, Joshua, TX 76058. | City Hall, 101 South Main Street, Joshua, TX 76058. | https://msc.fema.gov/portal/advanceSearch. | Dec. 12, 2019 | 480882
Tarrant | City of Arlington (19-06-1806P). | The Honorable Jeff Williams, Mayor, City of Arlington, P.O. Box 90231, Arlington, TX 76004. | Public Works and Transportation Department, 101 West Abram Street, Arlington, TX 76010. | https://msc.fema.gov/portal/advanceSearch. | Dec. 12, 2019 | 485454
Tarrant | City of Fort Worth (19-06-1552P). | The Honorable Betsy Price, Mayor, City of Fort Worth, 200 Texas Street, Fort Worth, TX 76102. | Transportation and Public Works Department, Engineering Vault, 200 Texas Street, Fort Worth, TX 76102. | https://msc.fema.gov/portal/advanceSearch. | Dec. 5, 2019 | 480596
Williamson | City of Cedar Park (19-06-0879P). | The Honorable Corbin Van Arsdale, Mayor, City of Cedar Park, 450 Cypress Creek Road, Building 1, Cedar Park, TX 78613. | Engineering Department, 450 Cypress Creek Road, Building 1, Cedar Park, TX 78613. | https://msc.fema.gov/portal/advanceSearch. | Nov. 21, 2019 | 481282
Williamson | Unincorporated areas of Williamson County (19-06-0879P). | The Honorable Bill Gravell, Jr., Williamson County Judge, 710 South Main Street, Suite 101, Georgetown, TX 78626. | Engineering Department, 3151 Southeast Inner Loop, Suite B, Georgetown, TX 78626. | https://msc.fema.gov/portal/advanceSearch. | Nov. 21, 2019 | 481079

[FR Doc. 2019-19701 Filed 9-11-19; 8:45 am]

BILLING CODE 9110-12-P